DEPARTMENT OF AGRICULTURE

U.S. Codex Office

Codex Alimentarius Commission: Meeting of the Codex Committee on Methods of Analysis and Sampling

AGENCY: U.S. Codex Office, USDA.

ACTION: Notice of public meeting and request for comments.

SUMMARY: The U.S Codex Office is sponsoring a public meeting on May 6, 2019. The objective of the public meeting is to provide information and receive public comments on agenda items and draft United States (U.S.) positions to be discussed at the 40th Session of the Codex Committee on Methods of Analysis (CCMAS) of the Codex Alimentarius Commission, in Budapest, Hungary, May 27-31 2019. The U.S. Manager for Codex Alimentarius and the Under Secretary, Office of Trade and Foreign Agricultural Affairs, recognize the importance of providing interested parties the opportunity to obtain background information on the 40th Session of the CCMAS and to address items on the agenda.

DATES: The public meeting is scheduled for May 6, 2019, from 2:00 p.m. to 4:00 p.m. EST.

ADDRESSES: The public meeting will take place in the United States Department of Agriculture (USDA), South Building, Room 1452B, 1400 Independence Avenue SW, Washington, DC 20250. Documents related to the 40th Session of the CCMAS will be accessible via the internet at the following address: http://www.fao.org/fao-who-codexalimentarius/meetings-reports/en.

Gregory O. Noonan, Ph.D., U.S. Delegate to the 40th Session of the CCMAS, invites U.S. interested parties to submit their comments electronically to the following email address: gregory.noonan@fda.hhs.gov.

Call in number: If you wish to participate in the public meeting for the 40th Session of the CCMAS by conference call, please register in advance by emailing Doreen.chenmoulec@osec.usda.gov. Please use the call-in-number: 1-888-844-9904 and participant code: 512 6092.

Registration: Attendees may register to attend the public meeting by emailing Doreen.chenmoulec@osec.usda.gov by April 4, 2019. Early registration is encouraged because it will expedite entry into the building. The meeting will take place in a Federal building. Attendees should bring photo identification and plan for adequate time to pass through the security screening systems. Attendees who are not able to attend the meeting in person, but who wish to participate, may do so by phone, as discussed above.

For further information about the 40th session of CCMAS: Contact Gregory O. Noonan, Ph.D., Research Chemist, Center for Food Safety and Applied Nutrition (CFSAN), Food and Drug Administration, Harvey W. Wiley Federal Building, 5100 Paint Branch Parkway, College Park, MD 20740. Phone: (240) 402-2250, Fax: (301) 436-2634, Email: Gregory.Noonan@fda.hhs.gov.

For information about the public meeting: Contact Doreen Chen-Moulec, U.S. Codex Office, 1400 Independence Avenue SW, Room 4867, South Building, Washington, DC 20250.Phone: (202) 205-7760, Fax: (202) 720-3157, Email: doreen.chenmoulec@osec.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCMAS is responsible for defining criteria appropriate to Codex Methods of Analysis and Sampling; serving as a coordinating body for Codex with other international groups working in methods of analysis and sampling and quality assurance systems for laboratories; specifying, on the basis of final recommendations submitted to it by other bodies, reference methods of analysis and sampling, appropriate to Codex standards which are generally applicable to a number of foods; considering, amending, and endorsing, as appropriate, methods of analysis and sampling proposed by Codex (Commodity) Committees, (except that methods of analysis and sampling for residues of pesticides or veterinary drugs in food, the assessment of micro-biological quality and safety in food, and the assessment of specifications for food additives, do not fall within the terms of reference of this Committee); elaborating sampling plans and procedures; considering specific sampling and analysis problems submitted to it by the Commission or any of its committees; and defining procedures, protocols, guidelines, or related texts for the assessment of food laboratory proficiency, as well as quality assurance systems for laboratories.

The CCMAS is hosted by Hungary, and the meeting is attended by the United States as a member country of the Codex Alimentarius.

Issues To Be Discussed at the Public Meeting

The following items on the Agenda for the 40th Session of the CCMAS will be discussed during the public meeting:

• Matters Referred to the Committee by the Codex Alimentarius Commission and Other Subsidiary Bodies

• Endorsement of Methods of Analysis Provisions and Sampling Plans in Codex Standards

• Review of Dairy Methods for Update of the Recommended Methods of Sampling (CXS 234)

• Guidance on Endorsement

• Revision of the Recommended Methods of CXS 234- preamble and structure

• Revision to the Guidelines on Measurement Uncertainty

• Revision of the General Guidelines on Sampling

• Report of an Inter-Agency meeting on Methods of Analysis and Other Business and Future Work

Each issue listed will be fully described in documents distributed, or to be distributed by the Secretariat before the Committee Meeting. Members of the public may access or request copies of these documents (see ADDRESSES).

Public Meeting

At the May 6, 2019, public meeting, draft U.S. positions on the agenda items will be described and discussed, and attendees will have the opportunity to pose questions and offer comments. Written comments may be offered at the meeting or sent to Gregory O. Noonan.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on February 13, 2019.
Mary Lowe,
U.S. Manager for Codex Alimentarius.

[FR Doc. 2019-02746 Filed 2-19-19; 8:45 am]

BILLING CODE P